DEPARTMENT OF HOMELAND SECURITY

Federal Emergency Management Agency

[Docket ID: FEMA-2025-0010; OMB No. 1660-0153]

Agency Information Collection Activities: Proposed Collection; Comment Request; National Business Emergency Operation Center (NBEOC) Membership Agreement Form

AGENCY: Federal Emergency Management Agency, Department of Homeland Security.

ACTION: 60-Day Notice of Extension and Request for Comments.

SUMMARY: The Federal Emergency Management Agency (FEMA), as part of its continuing effort to reduce paperwork and respondent burden, invites the general public to take this opportunity to comment on an extension of a currently approved information collection. In accordance with the Paperwork Reduction Act of 1995, this notice seeks comments concerning FEMA's compilation and information sharing leveraging the National Business Emergency Operation Center (NBEOC) stakeholder listing. FEMA seeks to voluntarily continue the standing practice of collecting entity specific information during an event to assist in response/recovery operations.

DATES: Comments must be submitted on or before June 30, 2025.

ADDRESSES: To avoid duplicate submissions to the docket, please submit comments at www.regulations.gov under Docket ID FEMA-2025-0010. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Matthew Scott, Management and Program Analyst, Logistics Management Directorate, Office of Response and Recovery, (202) 812-6418 or matthew.scott@fema.dhs.gov. You may contact the Information Management Division for copies of the proposed collection of information at email address: FEMA-Information-Collections-Management@fema.dhs.gov.

SUPPLEMENTARY INFORMATION: FEMA collects this information to facilitate communication between FEMA and the participants of FEMA's National Business Emergency Operations Center (NBEOC). Written consent is requested pursuant to the Privacy Act of 1974, 5 U.S.C. 552a(b). The information on this form in the “NBEOC Contact Information” section may be disclosed internally within Department of Homeland Security (DHS) as generally permitted under 5 U.S.C. 552a(b)(1) of the Privacy Act of 1974, as amended, and will not be shared outside of DHS. The program for which this form may be used is authorized by the Robert T. Stafford Disaster Relief and Emergency Assistance Act as amended, 42 U.S.C. 5121-5207; The Homeland Security Act of 2002, 6 U.S.C. 311-321j; 44 CFR 206.2(a)(27); the Personal Responsibility and Work Opportunity Reconciliation Act of 1996 (Pub. L. 104-193); and E.O. 13411, Improving Assistance for Disaster Victims. Information collected is as follows: Representative's Name, Business Entity Name, Representative's Signature, Representative's Title, Business E-Mail Address, and Business Category (ex: Small Business, Large Business, Non-Profit, etc.)

Collection of Information

Title: National Business Emergency Operation Center (NBEOC) Membership Agreement.

Type of Information Collection: Extension of a currently approved information collection.

OMB Number: 1660-0153.

FEMA Form: FEMA Form FF-145-FY-21-101, National Business Emergency Operation Center (NBEOC) Membership Agreement Form.

Abstract: FEMA's NBEOC collects this data for the primary purpose of maintaining a private sector stakeholder roster and mailing list for information dissemination, outreach, and coordination. FEMA leverages this information to engage stakeholders to coordinate disaster response operations, garner donations, and gain situational awareness around private sector actions that will help inform FEMA Leadership and assist evidence-based decision making.

Affected Public: Business or other for profit, Not-for-profit institutions, Federal Government, and State, local or Tribal Government.

Estimated Number of Respondents: 232.

Estimated Number of Responses: 232.

Estimated Total Annual Burden Hours: 116.

Estimated Total Annual Respondent Cost: $7,577.

Estimated Respondents' Operation and Maintenance Costs: $0.

Estimated Respondents' Capital and Start-Up Costs: $0.

Estimated Total Annual Cost to the Federal Government: $16,664.

Comments

Comments may be submitted as indicated in the ADDRESSES caption above. Comments are solicited to (a) evaluate whether the proposed data collection is necessary for the proper performance of the Agency, including whether the information shall have practical utility; (b) evaluate the accuracy of the Agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Rasco-Arthur,
Acting Records Management Branch Chief, Office of the Chief Administrative Officer, Mission Support, Federal Emergency Management Agency, Department of Homeland Security.

[FR Doc. 2025-07446 Filed 4-29-25; 8:45 am]

BILLING CODE 9111-24-P